DEPARTMENT OF AGRICULTURE

Forest Service

Caribou-Targhee National Forest, Idaho; Smokey Canyon Mine, Panels F & G FEIS Update

AGENCY: Forest Service, USDA.

ACTION: Revision of the Revised Notice of Intent to prepare an Environmental Impact Statement for the Smoky Canyon Mine Panels F & G Project, as published in the Federal Register pages 77118 to 77120 on December 29, 2005 (Vol. 70, No. 249). This revision includes a change of the project schedule.

SUMMARY: The USDA, Forest Service, DOI, Bureau of Land Management and Idaho Department of Environmental Quality prepared a Draft Environmental Impact Statement that documented the analysis and disclosed the environmental impacts of the proposed Smoky Canyon Mine, Panels F and G Project, a phosphate mine expansion. The DEIS was released for comment in December 2005 and a Notice of Availability was published in the Federal Register on December 29, 2005.

This revised Notice of Intent is to document a change in the schedule for the release of the FEIS. In the original NOI, dated September 15, 2003, the tentative date for release of the FEIS was September 2005; in the update to the NOI on December 29, 2005 the FEIS was scheduled for release in July, 2006. Due to scheduling changes, the release of the FEIS is now scheduled for October 2007.

DATES: A FEIS is expected to be completed by the end of October, 2007.

ADDRESSES: For further information, mail correspondence to Jeff Jones, Team Leader, Caribou-Targhee National Forest, 4350 Cliff Drive, Pocatello, ID 83204 or telephone (208) 236-7572.

Dated: October 3, 2007.
Lawrence Timchak,
Forest Supervisor.

[FR Doc. 07-4972 Filed 10-09-07; 8:45 am]

BILLING CODE 3410-11-M